DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Groundfish Tagging Program.

Form Number(s): None.

OMB Approval Number: 0648-0276.

Type of Request: Regular submission.

Burden Hours: 88.

Number of Respondents: 661.

Average Hours Per Response: Forms for tagged fish, 5 minutes; electronic archival tag return, 30 minutes.

Needs and Uses: The Groundfish Tagging Program provides scientists with information necessary for effective conservation, management, and scientific understanding of the groundfish fishery off Alaska and the Pacific Northwest. The program area includes the Pacific Ocean off Alaska (the Gulf of Alaska, the Bering Sea and Aleutian Islands Area, the Alexander Archipelago of Southeast Alaska), California, Oregon, and Washington. The distribution, movement rates and direction, growth, recruitment and mortality estimated from tag recoveries are important parameters used in groundfish population assessment models and in developing allocation systems.

Affected Public: Business or other for-profit organizations; individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 1, 2006.
Gwellnar Banks,
Management Analyst, Office of the Chief Information Officer.

[FR Doc. E6-8752 Filed 6-5-06; 8:45 am]

BILLING CODE 3510-22-P